DEPARTMENT OF HEALTH AND HUMAN SERVICES

Administration for Children and Families

[Docket No. 0970-0558]

Proposed Information Collection Activity; Generic for Administration for Children and Families Program Monitoring Activities (Office of Management and Budget)

AGENCY: Office of Planning, Research, and Evaluation, Administration for Children and Families, U.S. Department of Health and Human Services.

ACTION: Request for public comments.

SUMMARY: The Administration for Children and Families (ACF) intends to request from the Office of Management and Budget (OMB) an extension of approval for an umbrella generic clearance for information collections related to ACF program office monitoring activities. ACF programs promote the economic and social well-being of families, children, individuals, and communities. The Generic for ACF Program Monitoring Activities allows ACF program offices to collect standardized information from recipients that receive federal funds to ensure oversight, evaluation, support purposes, and stewardship of federal funds. There are no changes proposed to the terms of the generic. Burden estimates have been updated.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: Program monitoring is a post-award process through which ACF assesses a recipient's programmatic performance and business management performance. Monitoring activities are necessary to ensure timely action by ACF to support grantees and protect federal interests. Program offices use information collected under this generic clearance to monitor funding recipient activities and to provide support or take appropriate action, as needed. The information gathered is or will be used primarily for internal purposes, but aggregate data may be included in public materials such as Reports to Congress or program office documents. Following standard OMB requirements, ACF will submit a request for each individual data collection activity under this generic clearance. Each request will include the individual form(s) or instrument(s), a justification specific to the individual information collection, and any supplementary documents. OMB is requested to review requests within 10 days of submission.

Respondents: ACF funding recipients.

Annual Burden Estimates: This request will extend approval of currently approved monitoring forms. Currently approved forms and related burden can be found here: https://www.reginfo.gov/public/do/PRAICList?ref_nbr=202009-0970-001.

Burden estimates for the next 3 years have been updated to reflect trends in use over the past 3 years. These are based on averages and actual individual requests will vary based on program office need.

Instrument | Number of respondents (total over request period) | Number of responses per respondent (total over request period) | Average burden per response (in hours) | Total burden (in hours)
New Program Monitoring Forms | 1,600 | 2.5 | 10 | 40,000

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

John M. Sweet, Jr,
ACF/OPRE Certifying Officer.

[FR Doc. 2023-04878 Filed 3-8-23; 8:45 am]

BILLING CODE 4184-79-P